DEPARTMENT OF COMMERCE

National Oceanic and Atmospheric Administration

RIN 0648-XG637

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Ad Hoc Reef Fish Headboat Advisory Panel.

DATES: The meeting will convene on Tuesday, December 11, 2018, from 8:30 a.m. to 5 p.m. EDT.

ADDRESSES: The meeting will take place at the Gulf Council Office. Council address: Gulf of Mexico Fishery Management Council, 4107 West Spruce Street, Suite 200, Tampa, FL 33607; telephone: (813) 348-1630.

FOR FURTHER INFORMATION CONTACT: Dr. Assane Diagne, Economist, Gulf of Mexico Fishery Management Council; assane.diagne@gulfcouncil.org, telephone: (813) 348-1630.

SUPPLEMENTARY INFORMATION:

Tuesday, December 11, 2018; 8:30 a.m.-5 p.m., EDT:

1. Adoption of Agenda

2. Approval of September 2017 Meeting Summary

3. Scope of Work

4. Reef Fish Management for Headboat Survey Vessels

a. Decision Tool for Initial Individual Allocations

b. Draft Reef Fish Amendment 42 (Background Material)

c. G Referendum Eligibility Requirements (Background Material)

5. Reef Fish Amendment 50—State Management

6. Historical Captain Permits Conversion Into Standard For-Hire Permits

7. Other Business

— Meeting Adjourns—

The Agenda is subject to change, and the latest version along with other meeting materials will be posted on www.gulfcouncil.org as they become available.

The meeting will be webcast over the internet. A link to the webcast will be available on the Council's website, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: November 21, 2018.
Rey Israel Marquez,
Acting Deputy Director, Office of Sustainable Fisheries, National Marine Fisheries Service.

[FR Doc. 2018-25828 Filed 11-26-18; 8:45 am]

BILLING CODE 3510-22-P